DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: January 29, 2004, 9 a.m.-3:30 p.m.

Place: Hubert H. Humphrey Building, 200 Independence Avenue, SW., Room 705A, Washington, DC 20201.

Status: Open.

Purpose: At this meeting the Committee will hear presentations and hold discussions on several health data policy topics. On the morning of the first day the full Committee will hear updates and status reports from the Department on several topics including HHS Data Council activities, the adoption of data standards including clinical data standards, privacy rule compliance and activities of the Board of Scientific Advisors at the National Center for Health Statistics. A presentation on the Consolidated Health Informatics Initiative is also planned with subsequent discussion. In the afternoon there will be an update from the Privacy Subcommittee and discussion of recommendations, reports and letters that the Committee is working on in selected areas including claims attachment standards, and the Committee's 6th Report to Congress on the implementation of the Health Insurance Portability and Accountability Act of 1996 (HIPAA.) The Committee also plans to hear a briefing from the Executive Subcommittee from their latest retreat. Finally there will be a discussion of agendas for future NCVHS meetings.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: January 5, 2004.
James Scanlon,
Acting Deputy Assistant Secretary for Science and Data Policy, Office of the Assistant Secretary for Planning and Evaluation.

[FR Doc. 04-1142 Filed 1-16-04; 8:45 am]

BILLING CODE 4151-05-M